ENVIRONMENTAL PROTECTION AGENCY

[EPA-HQ-OPA-2007-0584; FRL-9941-25-OLEM]

Proposed Information Collection Request; Comment Request; Oil Pollution Prevention; Spill Prevention, Control, and Countermeasure (SPCC) Plans

AGENCY: Environmental Protection Agency (EPA).

ACTION: Notice.

SUMMARY: The Environmental Protection Agency (EPA) is planning to submit an information collection request (ICR), “Spill Prevention, Control, and Countermeasure (SPCC) Plans” (EPA ICR No. 0328.17, OMB Control No. 2050-0021) to the Office of Management and Budget (OMB) for review and approval in accordance with the Paperwork Reduction Act (44 U.S.C. 3501 et seq.). Before doing so, EPA is soliciting public comments on specific aspects of the proposed information collection as described below. This is a proposed extension of the ICR, which is currently approved through May 31, 2016. An Agency may not conduct or sponsor and a person is not required to respond to a collection of information unless it displays a currently valid OMB control number.

DATES: Comments must be submitted on or before March 14, 2016.

ADDRESSES: Submit your comments, referencing Docket ID No. EPA-HQ-OPA-2007-0584, online using www.regulations.gov (our preferred method), by email to superfund.docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Alan Tarrab, Regulations Implementation Division, Office of Emergency Management, Mail Code 5104A, Environmental Protection Agency, 1200 Pennsylvania Ave. NW., Washington, DC 20460; telephone number: 202-564-0206 fax number: (202) 564-2625; email address: tarrab.alan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The authority for EPA's oil pollution prevention requirements is derived from section 311(j)(1)(C) of the Clean Water Act, as amended by the Oil Pollution Act of 1990. EPA's regulation is codified at 40 CFR part 112. An SPCC Plan will help an owner or operator identify the necessary procedures, equipment, and resources to prevent an oil spill and to respond to an oil spill in a timely manner. If implemented effectively, the SPCC Plan is expected to prevent oil spills and reduce the impact and severity of oil spills. Although the owner or operator is the primary data user, EPA may also require the owner or operator to submit data to the Agency in certain situations to ensure facilities comply with the SPCC regulation and to help allocate response resources. State and local governments may use the data, which are not generally available elsewhere and can assist local emergency preparedness planning efforts. EPA does not require an owner or operator to submit SPCC Plans, but may request the SPCC Plan during a facility inspection or an oil spill incident for review. The SPCC regulation requires the owner or operator maintain a complete copy of the Plan at the facility if the facility is normally attended at least four hours per day or at the nearest field office if the facility is not so attended. The rule also requires that the Plan be available to the Regional Administrator for on-site review during normal working hours (40 CFR 112.3(e)).

SPCC Plan Preparation. Under section 112.3(a) or (b), the owner or operator or onshore or offshore facility subject to this section must prepare in writing and implement an SPCC Plan in accordance with section 112.7 and any other applicable sections in the regulation. Section 112.7 requires that the Plan be prepared in accordance with good engineering practices. The section also requires the Plan have the full approval of management at a level of authority to commit the necessary resources to fully implement the Plan. Specific provisions in this section, among others, require the owner or operator to predict the direction, rate of flow, and total quantity of oil which could be discharged from the facility as result of each type of major equipment failure (section 112.7(b)); provide for appropriate containment and/or diversionary structures or equipment to prevent a discharge (section 112.7(c)); provide for PE certification or a qualified facility certification (section 112.7(d)); and conduct inspections and tests and maintain records (section 112.7(e)).

Plan Certification. Under section 112.3(d), a SPCC Plan must, except as provided by 40 CFR 112.6, Qualified Facilities Plan Requirements, be reviewed and certified by a licensed Professional Engineer (PE) for it to be effective to satisfy the requirements. Under section 112.6, the owner or operator of a qualified facility may self-certify the Plan if the facility meets the eligibility criteria in section 112.3(g).

SPCC Plan Maintenance. Under section 112.5, the owner or operator must complete a review and evaluation of the SPCC Plan at least once every five years. As a result of this review and evaluation, the owner or operator must amend the Plan within six months of the review to include more effective prevention and control technology if the technology has been field-proven at the time of the review and will significantly reduce the likelihood of a discharge of oil.

Recordkeeping. Under section 112.7(e), an owner or operator must conduct inspections and tests and maintain records. The inspections and tests must be conducted in accordance with written procedures the facility or the certifying engineer developed for the facility. The written procedures and a record of the inspections and tests must be signed by the appropriate supervisor or inspector and kept with the SPCC Plan for a period of three years. Records of inspections and tests may be kept under usual and customary business practices.

Form Numbers: None.

Respondents/affected entities: Entities potentially affected by this action are the owners or operators of facilities that are required to have a Spill Prevention, Control, and Countermeasure (SPCC) Plan under the Oil Pollution Prevention regulation (40 CFR part 112). The applicability, definitions, and general requirements for all facilities and all types of oil are located in section 112.1 of the regulations and apply to any owner or operator of a non-transportation-related onshore or offshore facility engaged in drilling, producing, gathering, storing, processing, refining, transferring, distributing, using or consuming oil and oil products, which due to its location, could reasonably be expected to discharge oil into navigable waters or adjoining shorelines in quantities that may be harmful. (See 40 CFR 112.1(a) through (d) for further information about the applicability of the oil pollution prevention regulations.)

The private industry sectors subject to this action include but are not limited to: (1) Oil and Gas Extraction (NAICS 211); (2) Farms (NAICS 111, 112); (3) Electric Utility Plants (NAICS 2211); (4) Petroleum Refining and Related Industries (NAICS 324); (5) Chemical Manufacturing (NAICS 325); (6) Food Manufacturing (NAICS 311, 312); (7) Manufacturing Facilities Using and Storing Animal Fats and Vegetable Oils (NAICS 311, 325); (8) Metal Manufacturing (NAICS 331, 332); (9) Other Manufacturing (NAICS 31-33); (10) Real Estate Rental and Leasing (NAICS 531, 533); (11) Retail Trade (NAICS 441-446, 448,451-454); (12) Contract Construction (NAICS 23); (13) Wholesale Trade (NAICS 42); (14) Other Commercial (NAICS 492, 541, 551, 561-562); (15) Transportation (NAICS 481-488); (16) Arts, Entertainment, and Recreation (NAICS 711-713); (17) Other Services (Except Public Administration) (NAICS 811-813); (18) Education (NAICS 611); (19) Petroleum Bulk Stations and Terminals (NAICS 4247); (19) Fuel Oil Dealers (NAICS 45431); (20) Hospitals & Other Health Care (NAICS 621-624); (21) Accommodation and Food Services (NAICS 721,722); (22) Fuel Oil Dealers (NAICS 45431); (23) Gasoline Stations (NAICS 4471); (24) Information Finance and Insurance (NAICS 51, 52); (25) Mining (NAICS 212, 213); (26) Warehousing and Storage (NAICS 493); (27) Pipelines (NAICS 4861, 48691); (28) Government (NAICS 92); (29) Military Installations (NAICS 928110); and (30) Religious Organizations (NAICS 813110).

Respondent's obligation to respond: Mandatory, pursuant to 40 CFR 112.3(e).

Estimated number of respondents: 683,000 (total).

Frequency of response: Less than once per year.

Total estimated burden: 9,200,000 hours (per year). Burden is defined at 5 CFR 1320.03(b).

Total estimated cost: $1,034,000,000 (per year), includes $198,100,000 annualized capital or operation & maintenance costs.

Changes in Estimates: The number of respondents, burden, and costs stated above are from the current approved ICR, 0328.16. EPA may adjust these estimates based on public comments received or other information gained by the Agency prior to submitting the ICR renewal package to OMB.

Dated: December 23, 2105.
Reggie Cheatham,
Director, Office of Emergency Management.

[FR Doc. 2016-00538 Filed 1-12-16; 8:45 am]

BILLING CODE 6560-50-P